DEPARTMENT OF JUSTICE

Bureau of Prisons

Annual Determination of Average Cost of Incarceration Fee (COIF)

AGENCY: Bureau of Prisons, Justice.

ACTION: Notice.

SUMMARY: This notice publishes the Fiscal Year (FY) 2021 and FY 2022 Cost of Incarceration Fee (COIF) for Federal inmates.

DATES: Notice is applicable on September 22, 2023.

ADDRESSES: Office of General Counsel, Federal Bureau of Prisons, 320 First Street NW, Washington, DC 20534.

FOR FURTHER INFORMATION CONTACT: Daniel J. Crooks III, Assistant General Counsel/Rules Administrator, Federal Bureau of Prisons, at the address above or at (202) 353-4885.

SUPPLEMENTARY INFORMATION: Title 28 of the Code of Federal Regulations, part 505, allows for assessment of a fee to cover the average cost of incarceration for Federal inmates. We calculate the cost of incarceration fee (COIF) by dividing the number representing the Bureau of Prisons (Bureau) facilities' monetary obligation (excluding activation costs) by the number of inmate-days incurred for the fiscal year, and then by multiplying the quotient by the number of days in the fiscal year.

Based on FY 2021 data, the average annual COIF for a Federal inmate housed in a Bureau or non-Bureau facility in FY 2021 was $43,836 ($120.10 per day). The average annual COIF for a Federal inmate housed in a Residential Reentry Center for FY 2021 was $37,012 ($101.40 per day). (Please note: There were 365 days in FY 2021.)

Based on FY 2022 data, the average annual COIF for a Federal inmate housed in a Bureau or non-Bureau facility in FY 2022 was $42,672 ($116.91 per day). The average annual COIF for a Federal inmate housed in a Residential Reentry Center for FY 2022 was $39,197 ($107.39 per day). (Please note: There were 365 days in FY 2022.)

James Wills,
Assistant Director/General Counsel, Federal Bureau of Prisons.

[FR Doc. 2023-20585 Filed 9-21-23; 8:45 am]

BILLING CODE 4410-05-P